DEPARTMENT OF LABOR

Employment and Training Administration

[TA-W-63,283]

Kimball Office, Jasper, IN; Notice of Termination of Investigation

Pursuant to section 221 of the Trade Act of 1974, as amended, an investigation was initiated on April 30, 2008 in response to a petition filed by a company official on behalf of workers of Kimball Office, Jasper, Indiana.

The petitioner has requested that the petition be withdrawn. Consequently, the investigation has been terminated.

Signed at Washington, DC, this 22nd day of May 2008.
Linda G. Poole,
Certifying Officer, Division of Trade Adjustment Assistance.

[FR Doc. E8-12333 Filed 6-2-08; 8:45 am]

BILLING CODE 4510-FN-P